LEGAL SERVICES CORPORATION

Sunshine Act Meeting

Change Notice

FEDERAL REGISTER CITATION OF PREVIOUS ANNOUNCEMENT: 80 FR 37311.

PREVIOUSLY ANNOUNCED TIME AND DATE OF THE MEETING: The Finance Committee will meet telephonically on July 9, 2015 at 4 p.m., EDT.

CHANGES IN THE MEETING: The Finance Committee will meet telephonically on July 9, 2015 at 5 p.m., EDT.

CONTACT PERSON FOR INFORMATION: Katherine Ward, Executive Assistant to the Vice President & General Counsel, at (202) 295-1500. Questions may be sent by electronic mail to FR_NOTICE_QUESTIONS@lsc.gov.

Dated: June 30, 2015.
Katherine Ward,
Executive Assistant to the Vice President for Legal Affairs and General Counsel.

[FR Doc. 2015-16449 Filed 6-30-15; 11:15 am]

BILLING CODE 7050-01-P